DEPARTMENT OF HEALTH AND HUMAN SERVICES

Food and Drug Administration

[Docket No. FDA-2012-N-0004]

Statement of Cooperation Between the Food and Drug Administration and the Secretaria of Health of the United Mexican States: Safety and Sanitary Quality of Fresh and Frozen Molluscan Shellfish Exported From Mexico to the United States

AGENCY: Food and Drug Administration, HHS.

ACTION: Notice.

SUMMARY: The Food and Drug Administration (FDA) is providing notice of a Statement of Cooperation (SOC) between FDA and Secretariat of Health (SS) of the United Mexican States, through the Federal Commission for Protection from Sanitary Risks (COFEPRIS). The purpose of the SOC is to safeguard public health and to ensure the safety and sanitary quality of fresh and frozen molluscan shellfish harvested from aquacultured and wild populations that are now or may be exported into the United States.

DATES: The arrangement came into effect on June 28, 2012 for 5 years.

FOR FURTHER INFORMATION CONTACT: Phyllis Marquitz, Latin American Office, Office of International Programs, Food and Drug Administration, 10903 New Hampshire Ave., Bldg. 31, Rm. 3550, Silver Spring, MD 20993-0002, 301-796-8400, Fax: 301-595-7941.

SUPPLEMENTARY INFORMATION: In accordance with 21 CFR 20.108(c), which states that all written agreements and MOUs between FDA and others shall be published in the Federal Register, the Agency is publishing notice of this MOU.

Dated: July 5, 2012.
Leslie Kux,
Assistant Commissioner for Policy.

BILLING CODE 4160-01-P

[FR Doc. 2012-17081 Filed 7-12-12; 8:45 am]

BILLING CODE 4160-01-C